DEPARTMENT OF AGRICULTURE

Forest Service

North Central Idaho Resource Advisory Committee

AGENCY: Forest Service, USDA.

ACTION: Notice of meeting.

SUMMARY: The North Central Idaho Resource Advisory Committee (RAC) will meet in Grangeville, Idaho. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/nezperceclearwater/workingtogether/advisorycommittees.

DATES: The meeting will be held June 19, 2018, at 10:00 a.m. (PDT)

ADDRESSES: The meeting will be held at the Nez Perce-Clearwater National Forests, Grangeville Office, Main Conference Room, 104 Airport Road, Grangeville, Idaho.

Written comments may be submitted as described under SUPPLEMENTARY INFORMATION. All comments, including names and addresses when provided, are placed in the record and are available for public inspection and copying. The public may inspect comments received at the Nez Perce-Clearwater National Forests, Grangeville Office in Grangeville, Idaho. Please call ahead to facilitate entry into the building.

FOR FURTHER INFORMATION CONTACT: Lisa Canaday, RAC Assistant, by phone at 208-983-7004 or via email at lcanaday@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Introduce RAC members;

(2) Elect Chairperson; and

(3) Discuss the monitoring of previous projects.

The meeting is open to the public. The agenda will include time for people to make oral statements of three minutes or less. Individuals wishing to make an oral statement should request in writing by June 15, 2018, to be scheduled on the agenda. Anyone who would like to bring related matters to the attention of the committee may file written statements with the committee staff before or after the meeting. Written comments and requests for time to make oral comments must be sent to Lisa Canaday, Nez Perce-Clearwater National Forests, Grangeville Office, 104 Airport Road, Grangeville, Idaho 83530; or by email to lcanaday@fs.fed.us, or via facsimile to 208-983-4098.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: May 8, 2018.
Christopher French,
Associate Deputy Chief, National Forest System.

[FR Doc. 2018-10593 Filed 5-17-18; 8:45 am]

BILLING CODE 3411-15-P